DEPARTMENT OF ENERGY

Federal Energy Regulatory Commission

[Project No. 2552-058]

FPL Energy Maine Hydro, LLC; Notice of Availability of Draft Environmental Assessment

January 7, 2003.

In accordance with the National Environmental Policy Act of 1969 and the Federal Energy Regulatory Commission (Commission or FERC) regulations contained in the Code of Federal Regulations (CFR) (18 CFR part 380 [FERC Order No. 486, 52 FR 47897]), the Office of Energy Projects staff (staff) reviewed the application for surrender of project license for the Fort Halifax Project, located on the Sebasticook River, Kennebec County, Maine, and prepared an environmental assessment (EA) for the project. In this EA, staff analyze the potential environmental effects of the surrender of license and conclude that the surrender, or any other alternative considered, would not constitute a major federal action significantly affecting the quality of the human environment.

A copy of the EA is available for review at the Commission in the Public Reference Room, or it may be viewed on the Commission's Web site at http://www.ferc.gov using the “FERRIS” link. Enter the docket number (prefaced by P- and excluding the last three digits) in the docket number field to access the document. For assistance, please contact FERC Online Support at FERCOnlineSupport@ferc.gov or toll-free at (866)208-3676, or for TTY, contact (202)502-8659.

Any comments should be filed by February 14, 2003, and should be addressed to Magalie R. Salas, Secretary, Federal Energy Regulatory Commission, 888 First Street, NE., Washington, DC 20426. Please affix “Fort Halifax Project No. 2552-058,” to all comments. For further information, please contact Robert Fletcher at (202) 502-8901, or at robert.fletcher@ferc.gov or Jean Potvin at (202) 502-8901 or at jean.potvin@ferc.gov.

Comments may be filed electronically via the Internet in lieu of paper. See 18 CFR 385.2001 (a)(1)(iii) and the instructions on the Commission's Web site at http://www.ferc.gov under the “e-Filing” link. The Commission strongly encourages electronic filings.

Magalie R. Salas,
Secretary.

[FR Doc. 03-701 Filed 1-13-03; 8:45 am]

BILLING CODE 6717-01-P